DEPARTMENT OF ENERGY

Federal Energy Regulatory Commission

[Docket No. RP93-5-041]

Northwest Pipeline Corporation; Notice of Compliance Filing

July 18, 2002.

Take notice that on July 12, 2002, Northwest Pipeline Corporation (Northwest) tendered for filing a compliance filing in response to the Commission's June 12, 2002 order in this docket.

Northwest states that the purpose of this filing is to comply with the Commission's June 12, 2002 Order on Remand in Docket No. RP93-5-040. Northwest states that on April 3, 2000 it submitted revised rates and surcharges based on the 6.08 percent long-term growth projection as established by settlement of the parties and the median return on equity, which was accepted in a July 14, 2000 order. Northwest further states that on August 31, 2001 it filed a refund and surcharge offset report confirming its compliance with the Commission's July 14, 2000 order. The refund report was accepted by the Commission on December 5, 2001. Northwest believes that the April 3, 2000 compliance filing and the August 31, 2001 refund report satisfy the requirements of the June 12, 2002 order and requests the Commission to take whatever action it deems necessary to close this docket.

Northwest states that a copy of this filing has been served upon each person designated on the official service lists compiled by the Secretary in this proceeding.

Any person desiring to protest said filing should file a protest with the Federal Energy Regulatory Commission, 888 First Street, NE., Washington, DC 20426, in accordance with section 385.211 of the Commission's rules and regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.
Deputy Secretary

[FR Doc. 02-18691 Filed 7-23-02; 8:45 am]

BILLING CODE 6717-01-P